DEPARTMENT OF COMMERCE

Bureau of Economic Analysis

Agency Information Collection Activities; Submission to the Office of Management and Budget (OMB) for Review and Approval; Comment Request; Direct Investment Surveys: BE-11, Annual Survey of U.S. Direct Investment Abroad

AGENCY: Bureau of Economic Analysis, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 15, 2025.

ADDRESSES: Interested persons are invited to submit written comments to Kirsten Brew, Chief, Multinational Operations Branch, Bureau of Economic Analysis, U.S. Department of Commerce, by email to Kirsten.Brew@bea.gov and PRAcomments@bea.gov. Please reference OMB Control Number 0608-0053 in the subject line of your comments. Do not submit Confidential Business Information or otherwise sensitive or protected information.

FOR FURTHER INFORMATION CONTACT: Requests for additional information or specific questions related to collection activities should be directed to Kirsten Brew, Chief, Multinational Operations Branch, Bureau of Economic Analysis, U.S. Department of Commerce; via email at Kirsten.Brew@bea.gov or by phone at 301-278-9152.

SUPPLEMENTARY INFORMATION:

I. Abstract

The Annual Survey of U.S. Direct Investment Abroad (BE-11) obtains sample data on the financial structure and operations of U.S. parents and their foreign affiliates. The data are needed to provide reliable, useful, and timely measures of U.S. direct investment abroad to assess its impact on the U.S. and foreign economies. The sample data are used to derive universe estimates in nonbenchmark years from similar data reported in the BE-10, Benchmark Survey of U.S. Direct Investment Abroad, which is conducted every five years. The data collected include balance sheets; income statements; property, plant, and equipment; employment and employee compensation; merchandise trade; sales of goods and services; taxes; and research and development activity.

The Bureau of Economic Analysis (BEA) proposes the following changes to the BE-11 survey to align its international survey program with available resources:

Discontinue collection of minority-owned foreign affiliates. This change would eliminate the annual filing requirement for minority-owned foreign affiliates that were required to report on the BE-11C or BE-11D forms. A foreign affiliate is minority owned if the combined direct and indirect voting ownership interests (or the equivalent) of the U.S. parent(s) are at least 10 percent, but not more than 50 percent. The BE-11C form was required to be reported for minority-owned foreign affiliates whose assets, sales or gross operating revenues, or net income (loss) exceed $60 million. In addition, minority-owned foreign affiliates that are newly established or acquired during the fiscal year that meet the BE-11D form filing thresholds (total assets, sales or gross operating revenues, or net income (loss) of more than $25 million but for which none of these exceed $60 million at the end of the affiliate's fiscal year) would no longer be required to report.

II. Method of Collection

BEA contacts potential respondents by mail in March of each year; responses covering a reporting company's fiscal year ending during the previous calendar year are due by May 31. Reports are required from each U.S. person that has a direct and/or indirect ownership interest exceeding 50 percent of the voting stock in an incorporated foreign business enterprise, or an equivalent interest in an unincorporated foreign business enterprise, and that meets the additional conditions detailed in the BE-11 forms and instructions. Entities required to report will be contacted individually by BEA. Entities not contacted by BEA have no reporting responsibilities.

BEA offers electronic filing through its eFile system for use in reporting on the BE-11 annual survey forms. In addition, BEA posts all its survey forms and reporting instructions on its website (www.bea.gov/dia). These may be downloaded, completed, printed, and submitted via fax or mail.

Potential respondents of the BE-11 are selected from those U.S. parents that reported owning foreign business enterprises in the 2024 BE-10, Benchmark Survey of U.S. Direct Investment Abroad, along with entities that subsequently entered the direct investment universe. The BE-11 is a sample survey; universe estimates are developed from the reported sample data.

III. Data

OMB Control Number: 0608-0053.

Form Number: BE-11.

Type of Review: Reinstatement with change of a previously approved collection.

Affected Public: Business or other for-profit organizations.

Estimated Number of Respondents: 3,000 respondents (U.S. parents). A complete response includes a BE-11 A form for the U.S. parent's domestic operation and one or more BE-11 B or D forms for its foreign affiliates that meet the BE-11 survey requirements. BEA estimates that U.S. parents will submit 3,000 A forms, 22,000 B forms, 130 D forms, and 500 Claim for Exemption forms.

Estimated Total Annual Burden Hours: 285,630 hours. Total annual burden is calculated by multiplying the estimated number of submissions of each form by the average hourly burden per form, which is 7 hours for the A form, 12 hours for the B form, 1 hour for the D form, and 1 hour for the Claim for Exemption form.

Estimated Time per Respondent: 95.2 hours per respondent (285,630 hours/3,000 U.S. parents) is the average but may vary considerably among respondents because of differences in company structure, complexity, and the number of foreign affiliates each U.S. parent must report.

Estimated Total Annual Cost to Public: $0.

Respondent's Obligation: Mandatory.

Legal Authority: International Investment and Trade in Services Survey Act (Pub. L. 94-472, 22 U.S.C. 3101-3108, as amended).

IV. Request for Comments

We are soliciting public comments to permit the Department of Commerce/Bureau of Economic Analysis to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-10908 Filed 6-13-25; 8:45 am]

BILLING CODE 3510-06-P